DEPARTMENT OF THE TREASURY

United States Mint

Pricing for the 2021 National Law Enforcement Memorial and Museum Commemorative Coin Program and Christa McAuliffe Silver Dollar

AGENCY: United States Mint, Department of the Treasury.

ACTION: Notice.

SUMMARY: The United States Mint is announcing pricing for the 2021 National Law Enforcement Memorial and Museum Commemorative Coin Program and Christa McAuliffe Silver Dollar as follows:

Coin | Introductory price | Regular price
Silver Proof | $74.00 | $79.00
Silver Uncirculated | 69.00 | 74.00
Clad Proof | 33.00 | 38.00
Clad Uncirculated | 35.00 | 40.00

Products containing gold coins will be priced according to the Pricing of Numismatic and Commemorative Gold and Platinum Products Grid posted at www.usmint.gov.

FOR FURTHER INFORMATION CONTACT: Rosa Matos or Rosa Williams, Program Managers for Sales and Marketing; United States Mint; 801 9th Street NW; Washington, DC 20220; or call 202-354-7500.

Authority: Public Law 116-94; Public Law 116-65.

Eric Anderson,
Executive Secretary, United States Mint.

[FR Doc. 2021-02472 Filed 2-5-21; 8:45 am]

BILLING CODE P